DEPARTMENT OF COMMERCE

National Oceanic and Atmospheric Administration

Agency Information Collection Activities; Submission to the Office of Management and Budget (OMB) for Review and Approval; Comment Request; Resident Perceptions of Offshore Wind Energy Development Off the Oregon Coast and Along the Gulf of Mexico

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 27, 2023 during a 60-day comment period. This notice allows for an additional 30 days for public comments.

Agency: National Oceanic and Atmospheric Administration, Commerce.

Title: Resident Perceptions of Offshore Wind Energy Development off the Oregon Coast and Along the Gulf of Mexico.

OMB Control Number: 0648-0744.

Form Number(s): None.

Type of Request: Regular (Revision).

Number of Respondents:

Oregon—Focus groups: 48; Questionnaire: 4,569.

Gulf of Mexico (TX and LA)—Focus groups: 64; Questionnaire: 4,925.

Total—Focus Groups: 112; Questionnaire: 9,494.

Average Hours per Response:

Focus groups: 1 hour; Questionnaire: 20 minutes.

Total Annual Burden Hours:

Oregon: 1,571.

Gulf of Mexico (TX and LA): 1,705.66.

Total: 3,276.66.

Needs and Uses: This is a request for revision to an existing information collection. Pursuant to E.O. 14057 (Executive Order on Catalyzing Clean Energy Industries and Jobs Through Federal Sustainability), the Outer Continental Shelf Land Act, the National Environmental Policy Act, and the Coastal Zone Management Act, the requested revision will expand the existing data collection, which is currently focused on coastal Oregon, by adding a new geographical location, specifically, coastal Texas and Louisiana along the Gulf of Mexico.

The Bureau of Ocean Energy Management (BOEM) held its first leasing auction for the Gulf of Mexico in August 2023. BOEM finalized four Wind Energy Areas (WEAs) in the Gulf of Mexico in October 2023. Outside of official public engagement forums, preferences about offshore wind energy development generally remain unknown for members of the public, as well as for groups who may not perceive themselves as stakeholders. Failure to gain the perspective of communities regarding potential benefits or impacts is problematic, particularly when latent stakeholders to local projects emerge late in the planning process.

The National Ocean Service (NOS) proposes to expand collection of data on the opinions, values, and attitudes relative to offshore wind energy development to coastal residents of Texas and Louisiana along the Gulf of Mexico in addition to coastal Oregon. Respondents (age 18 years and older) will be randomly sampled from households in 39 coastal counties in Texas and Louisiana. This information will be used by NOAA, BOEM, and others to understand what is important to communities; understand how differing values and perceptions across communities influence local receptivity to proposed development; and improve communication efforts targeted to residents, enabling agencies to more effectively and efficiently direct outreach and community inclusion activities. NOAA has a vested interest in offshore wind energy development, from many perspectives, including as it relates to the resilience, well-being, and sustainability of coastal communities.

Affected Public: Individuals or households.

Frequency: Once.

Respondent's Obligation: Voluntary.

Legal Authority: NOAA's Programmatic Authority—Integrated Coastal and Ocean Observation System Act (33 U.S.C. 3601 et seq.); BOEM's Programmatic Authority—Outer Continental Shelf Lands Act (43 U.S.C. 1346).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0744.

Sheleen Dumas,
Department PRA Clearance Officer, Office of the Under Secretary for Economic Affairs, Commerce Department.

[FR Doc. 2024-10527 Filed 5-13-24; 8:45 am]

BILLING CODE 3510-JE-P